DEPARTMENT OF HEALTH AND HUMAN SERVICES

Office of Inspector General; Program Exclusions: December 2002

AGENCY: Office of Inspector General, HHS.

ACTION: Notice of program exclusions.

During the month of December 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
ALY, WAEL | 01/20/2003
CLIFTON, NJ
BACO-CUEBAS, GERMAN A | 01/20/2003
MAYAGUEZ, PR
BERG, SHANNON GRIFFIN | 01/20/2003
FLORENCE, SC
BRIDGER, BARBARA LYNN | 01/20/2003
PIERRE, SD
CHRISTOPHERSON, PAUL K | 01/20/2003
GREEN BAY, WI
DAVIS, CHRISTOPHER | 01/20/2003
PHILADELPHIA, PA
DIAZ, MIGUEL | 01/20/2003
NAPLES, FL
DRAKE-LASSIE, MINERVA | 01/20/2003
GROVE CITY, OH
EIDMAN, STEVEN E | 01/20/2003
ENGLEWOOD, NJ
FARRAR, STACEY J | 01/20/2003
BUFFALO, OH
FIELDS, SANDRA KAYE | 01/20/2003
SHREVEPORT, LA
FROH, JOHN ROBERT | 01/20/2003
EDEN PRAIRIE, MN
GARCIA, LUISA F | 01/20/2003
FT LAUDERDALE, FL
GASTON, SHAUNDRA LANELL | 01/20/2003
DALLAS, TX
GLASSES MADE EAZY, INC | 01/20/2003
PHILADELPHIA, PA
GOLDEN OPTICAL, INC | 01/20/2003
PHILADELPHIA, PA
HAMMOND, HELEN | 01/20/2003
HAWKINSVILLE, GA
HERAVI, BEHROOZ | 01/20/2003
BEVERLY HILLS, CA
HERAVI, BEHZAD | 01/20/2003
RESEDA, CA
JIMENEZ, JOAQUIN JOSE | 01/20/2003
LOS ANGELES, CA
KEMPTON, JAMES E | 01/20/2003
MEDIA, PA
KNEPLER, JEFFREY | 01/20/2003
BUTLER, WI
LIPPTON, HOWARD | 01/20/2003
YAZOO CITY, MS
LIPSEY, PHILLIP C | 01/20/2003
TERRE HAUTE, IN
MARK GERRY PLUCER, D O, P C | 01/20/2003
FLINT, MI
MARTIN, SUSAN E | 01/20/2003
NEWBERRY, SC
PAGE, EVA H | 01/20/2003
WOODBURY, MN
PETERMAN, LANCE JEFFREY | 01/20/2003
COLORADO SPRINGS, CO
PETERSON, KAREN R | 01/20/2003
PEORIA, AZ
RAITHATHA, PRABJUDAS G | 01/20/2003
LEXINGTON, KY
RILES, CRAIG | 01/20/2003
RAIFORD, FL
RODRIGUEZ, LUIS J | 01/20/2003
MIAMI, FL
SANDLER, SCOTT | 10/31/2002
CHICAGO, IL
SANTA, FREDERICK J | 01/20/2003
NORTHFORD, CT
SELIM, HANAN | 01/20/2003
CLIFTON, NJ
SHAW, K GLENN | 01/20/2003
MORRISON, CO
STOLPEN, RODGER H | 01/20/2003
SOMERS, CT
STRACHAN, JOYCE | 01/20/2003
ATLANTA, GA
TAYLOR, JAMES E | 01/20/2003
HARTLY, DE
THURSTON, WILLIAM H | 01/20/2003
S JORDAN, UT
VEGA-DELGADO, MARISOL | 01/20/2003
SAN JUAN, PR
WEEKS, ROBIN RAE | 01/20/2003
DAYTON, OH
WESTBAY, CHAD LEE | 01/20/2003
BOONVILLE, MO
WILSON, BRENDA LOUISE | 01/20/2003
TERRE HAUTE, IN
YAMINI, ANWAR SR | 01/20/2003
S HOLLAND, IL
ZAPATERO, ADALBERTO | 01/20/2003
TAFT, CA
FELONY CONVICTION FOR HEALTH CARE FRAUD
ANKROM, BRUCE EDWARD | 01/20/2003
CALIPATRIA, CA
HATFIELD, WILLIAM G | 01/20/2003
CHARLOTTESVILLE, VA
MASORTI, JONATHAN M | 01/20/2003
STATE COLLEGE, PA
MITCHELL, GREGORY WAYNE | 01/20/2003
LAS VEGAS, NV
PSAILA, BART R | 01/20/2003
PITTSFORD, NY
STACK, SOPHIA DAO | 01/20/2003
ANAHEIM, CA
FELONY CONTROL SUBSTANCE CONVICTION
BEACH, JEFFREY A | 01/20/2003
MOUNTAIN TOP, PA
BLAND, BRENDA S | 01/20/2003
CENTERVILLE, OH
BRADY, RYAN KEITH | 01/20/2003
W VALLEY CITY, UT
DEBUS, LAURIE MARIE | 01/20/2003
ALLIANCE, NE
EULO, JANMARIE | 01/20/2003
MORRISONVILLE, NY
MILESKI, MARK KEVIN | 01/20/2003
CARROLLTON, TX
OSTROSKIE, JOAN | 01/20/2003
NEW MILFORD, NJ
ROMO, JOEY RUSSELL | 01/20/2003
LITCHFIELD, AZ
SLUSHER, STEPHEN LARKIN | 01/20/2003
ESCANABA, MI
VAUGHN, DALE RAY | 01/20/2003
WARREN, OH
PATIENT ABUSE/NEGLECT CONVICTIONS
BEECHUM, JANICE ANN | 01/20/2003
TACOMA, WA
BERMISA, RAQUEL | 01/20/2003
KAILULA, HI
CARLSON, JACALYN GALE | 01/20/2003
SAUK CENTRE, MN
DEVEREAUX, NYLA L | 01/20/2003
AURORA, CO
FEUCHT, ROBERT CHARLES | 01/20/2003
SAUK CENTRE, MN
FREEMAN, JOHN | 01/20/2003
MEMPHIS, TN
FRENCH PRIEUR, REBA ANN | 01/20/2003
LITTLE ROCK, AR
GUICE, CARLA RENEE | 01/20/2003
TALLULAH, LA
HAYES, JANET | 01/20/2003
GREEN BAY, WI
JONES, DEKESHA MARIE | 01/20/2003
OKLAHOMA CITY, OK
LAMBERTH, ANGELA M | 01/20/2003
MICHIE, TN
LATCHFORD, DOROTHEA R | 01/20/2003
LEWISTOWN, PA
LATCHFORD, LLOYD E | 01/20/2003
CAMP HILL, PA
MCANALLY, BRYAN M | 01/20/2003
FINKSBURG, MD
MELCHOR, EDGAR | 01/20/2003
LOS ANGELES, CA
MOORE, MILDRED | 01/20/2003
COLUMBUS, OH
NEEDLES, JOHN DAVID | 01/20/2003
CEDAR CITY, UT
PLATNER, DONALD J | 01/20/2003
FOX POINT, WI
PRINCE, TIMOTHY D | 01/20/2003
LAVERGNE, TN
ROBERTS, ALYSSA | 01/20/2003
BEMIDJI, MN
SMITH, SANDRA J | 01/20/2003
FT ATKINSON, WI
TANYI, ANTONIA S | 01/20/2003
LEONARD, MI
TAYLOR, BEVERLY JEAN | 01/20/2003
ST PAUL, MN
WEST, TERRY D | 01/20/2003
LUMBER CITY, GA
WILLIAMS, MARGARET | 01/20/2003
BRIDGEPORT, OH
CONTROLLED SUBSTANCE CONVICTIONS
HOBBS, REBECCA E | 01/20/2003
RICHMOND, IN
MAXON, MONICA ANN | 01/20/2003
VESTABURG, PA
LICENSE REVOCATION/SUSPENSION/SURRENDERED
ADAMS, EARL LEONARD | 01/20/2003
MIRAMAR, FL
ALI, SHIFFE HAAMID | 01/20/2003
HIGHLAND PARK, IL
ALLEN, ANGELA MARIE | 01/20/2003
MATTAWAN, MI
ANDERSON, MICHAEL | 01/20/2003
COSTA MESA, CA
ARMOR, ROSILYN C | 01/20/2003
RIALTO, CA
BEEBE, LINDA KAY | 01/20/2003
MESQUITE, TX
BELL, MARLO THOMAS | 01/20/2003
TUSCALOOSA, AL
BENKIN, RICHARD | 01/20/2003
MOUNT PROSPECT, IL
BLACKBURN, PETER M | 01/20/2002
SPRINGFIELD, IL
BLEDSOE, MARY D | 01/20/2003
CHILLICOTHE, MO
BOLLING, BEVERLY ANN | 01/20/2003
CINCINNATI, OH
BOURQUE, ANGELA | 01/20/2003
W MONROE, LA
BRACKEN, SUSAN A | 01/20/2002
SANFORD, NC
BREEDEN, CONNIE | 01/20/2003
CRIMORA, VA
BROWN, JAMES WAYNE | 01/20/2003
SANGER, TX Page 6
BROWN, JOYCE PEARL | 01/20/2003
CHICAGO, IL
BROWN, MARTHA | 01/20/2003
PASCAGOULA, MS
BURNS, LOIS ELAINE | 01/20/2003
MINDEN, NV
BUSTAMONTE, DARIO JR | 01/20/2003
SANGER, CA
CARBERRY, F JAMES | 01/20/2003
QUEENSBURY, NY
CARTER, KIM MICHELLE | 01/20/2003
HIGHLAND, CA
CARTRIGHT, JENNIFER A | 01/20/2003
CARTHAGE, MO
CHALFANT, JEAN P | 01/20/2003
VALDESE, NC
CHATMON, MAURICE | 01/20/2003
MONROE, LA
CHUPREVICH, EILEEN DOROTHY | 01/20/2003
BUTLER, NJ
COBBS, JOSEPH E | 01/20/2003
SAN DIEGO, CA
COLEMAN, SEAN DYLAN | 01/20/2003
SAN JOSE, CA
COLSON, BRIAN P | 01/20/2003
PARKER, CO
CREEKMORE, JAYNE | 01/20/2003
TOPOCK, AZ
CROCKER, CAROL J | 01/20/2003
FARMINGTON, MO
DE FRIEZ, CURTIS B | 01/20/2003
CARSON CITY, NV
DEROSIS, EDWARD LOUIS | 01/20/2003
SAN RAFAEL, CA
DRAKE, RANDALL SCOTT | 01/20/2003
MT STERLING, KY
DRESSEL, TAMMY A | 01/20/2003
BALTIMORE, MD
DRUMM, RANDY ELLIS | 01/20/2003
LAPEER, MI
EBERLING, KAREN STOBER | 01/20/2003
JEFFERSONTOWN, KY
ELLINGTON, JOSHUA THOMAS DANIE | 01/20/2003
UKIAH, CA
FAHEY, SANDRA L | 01/20/2003
WOODBRIDGE, VA
FERGUSON, DANIEL STEPHEN | 01/20/2003
YUCAIPA, CA
FERNANDES, PATRICIA A | 01/20/2003
N ATTLEBORO, MA
FLEMING, LINDA JEAN | 01/20/2003
BATAVIA, IL
FOREST, ANNIE MARGARETT | 01/20/2003
DALLAS, TX
GABION, CELIA ESTANO | 01/20/2003
BREA, CA
GALLEA, MICHELLE ANN | 01/20/2003
HEMET, CA
GANSON, NORMA R | 01/20/2003
HAVANA, IL
GARZA, MARGARET S | 01/20/2003
CORPUS CHRISTI, TX
GENDRON, SUSAN | 01/20/2003
HURON, CA
GILMORE, BARBARA A | 01/20/2003
KANSAS CITY, MO
GLATTER, DEBRA DEE | 01/20/2003
SHELBY, NE
GOSS, BARBARA CRAIG | 01/20/2003
BIRMINGHAM, AL
GRAY, SAMUEL H | 01/20/2003
GLENDALE, AZ
HACKER, DEBORAH JEAN | 01/20/2003
AUSTIN, TX
HALL, KAREN | 01/20/2003
BAY ST LOUIS, MS
HAMILTON, FRANK WAYNE | 01/20/2003
TULSA, OK
HARDMAN, CHARLENE RAE | 01/20/2003
TOOELE, UT
HARTMAN, JAMES ROBERT | 01/20/2003
LAGUNA NIGUEL, CA
HAWKINS, KIMBERLY | 01/20/2003
AUSTIN, TX
HEULER, WALTER KENNETH | 01/20/2003
ORANGE, CA
HIBLER, SLADE EVERETT | 01/20/2003
SALADO, TX
HILL, RONNETTA EUGENIA | 01/20/2003
FONTANA, CA
HODGE, KAREN LEE | 01/20/2003
PLAINWELL, MI
HOLLIS, VINCENT W III | 01/20/2003
CARSON, CA
HOOKER, NELEY ELEANOR | 01/20/2003
LOS ANGELES, CA
HUFFMAN, ROMMIE | 01/20/2003
GREENSBORO, NC
HUGHES, GAIL MARIE | 01/20/2003
PASEDENA, TX
JACKSON, GLORIA ANN | 01/20/2003
ALEXANDER CITY, AL
JAMES, TAMMIE LYNN | 01/20/2003
BATON ROUGE, LA
JAZAYERI, ROBERT | 01/20/2003
IRVINE, CA
JOHNSON, SUSAN GAIL | 01/20/2003
WILLIAMSBURG, OH
JOHNSON, BRENDA CAROLINE | 01/20/2003
WILLIAMSTOWN, NJ
JOHNSON, TERESA A | 01/20/2003
BELLEVILLE, IL
JOHNSON, JODY C | 01/20/2003
VERNAL, UT
JONES, AMY JO | 01/20/2003
WINAMAC, IN
JONES, CATHERINE | 01/20/2003
LAUREL, MS
KAMINSKY, TAMARA FRANCINE | 01/20/2003
LAKE FORREST, CA
KEETON, KELLY | 01/20/2003
BOONEVILLE, MS
KONOPA, TERRI L | 01/20/2003
WINCHESTER, VA
KUNKEL, PATRICIA ELOIS | 01/20/2003
AMARILLO, TX
LAIR, MATTHEW BYRON | 01/20/2003
WHITNEY, TX
LANDREMAN, JAMES R | 01/20/2003
ROSENDALE, WI
LAYNE, HERMETTA PAUL | 01/20/2003
KILLEEN, TX
LEE, JEONG PYO | 01/20/2003
CORONA, CA
LIEBERMAN, FRED L | 01/20/2003
LOS ANGELES, CA
LUTHER, WANDA SUE | 01/20/2003
ELIZABETH, IN
MACK, TIMOTHY W | 01/20/2003
CLINTON, MA
MADDOX, PATRICIA E GRIMES | 01/20/2003
FLORALA, AL
MASSEY, MELISSA A | 01/20/2003
PHOENIX, AZ
MAYNARD, JERRY O | 01/20/2003
WOODBURY, TN
MAYS, GAIL A | 01/20/2003
MIDLOTHIAN, VA
MCCARLEY, DOUGLAS SCOTT | 01/20/2003
GRAND PRAIRIE, TX
MCCONNELL, SHERRY | 01/20/2003
ASHVILLE, NC
MCCONNELL, DOUGLAS D | 01/20/2003
NOGALES, AZ
MCGEE, MICHAEL KEVIN | 01/20/2003
SAN DIEGO, CA
MCINTYRE, MARLENE MARY | 01/20/2003
MILAN, IL
MCMAHON, DARREL JAMES | 01/20/2003
TWIN FALLS, ID
MCMURTREY, ALICE ELIZABETH | 01/20/2003
N PLATTE, NE
MENDELL, PHYLLIS MALKA | 01/20/2003
HUNTINGTON, NY
METLER, JAMES R | 01/20/2003
SHELBYVILLE, TN
METZ, JAN E | 01/20/2003
NAPERVILLE, IL
MILLER, ANTHONY LAWRENCE | 01/20/2003
TUCSON, AZ
MOREAU, BLAKE ALLEN | 01/20/2003
NEDERLAND, TX
MORLAND, JULIE ANN | 01/20/2003
GALVA, IL
MURRY-STUBER, KATHRYN L | 01/20/2003
AURORA, CO
NASS, MARK D | 01/20/2003
ROCKFORD, IL
NICHOLAS, HUNTER ADRIAN | 01/20/2003
BISMARCK, ND
NICHOLSON, YVONNE ANNETTE | 01/20/2003
PEORIA, AZ
NIEMAN, KIMBERLEY L | 01/20/2003
LAKEWOOD, CO
O'HAIR, RICHARD KARL | 01/20/2003
HERRIN, IL
O'SHEA, SUSAN GALE | 01/20/2003
SAN DIEGO, CA
OHLENFROST, JAMES W | 01/20/2003
INDIAN TRAIL, NC
OLIVE, OZIE L | 01/20/2003
SAN BERNADINO, CA
OLIVER, JOANETTA JOHNSON | 01/20/2003
ENSLEY, AL
OWENS, RONALD | 01/20/2003
MEBANE, NC
PADRON, CARMEN | 01/20/2003
EMPORIA, KS
PALACIO, DOROTHY ELIZABETH | 01/20/2003
YUCAIPA, CA
PEARSON, JULIE ANN | 01/20/2003
GREENCASLTE, IN
PENNINGTON, BECKY A | 01/20/2003
TERRELL, TX
PETERJOHN, BRIAN D | 01/20/2003
CHARLOTTE, NC
PETERSON, DEBORAH D | 01/20/2003
STURGIS, SD
PLYMALE, ROBERT DARWIN | 01/20/2003
SALT LAKE CITY, UT
POCKNETT, DWAYNE ANTHONY | 01/20/2003
LOS ANGELES, CA
RAMIREZ, MARIA HALLEX | 01/20/2003
LAKE ARROWHEAD, CA
RAY, SUZANNA CAROL | 01/20/2002
BERKELEY, CA
REID, DONITA K ROBINSON | 01/20/2003
SEVIERVILLE, TN
REYES, ROMONA | 01/20/2003
RICHNOND HILL, GA
RICHARDS, TERRI ROXIANNE | 01/20/2003
MOSS POINT, MS
RIVERS, DAWN M | 01/20/2003
MARION, IL
ROBERTSON, YVONNE N | 01/20/2003
KNOXVILLE, TN
ROHS, ELIZABETH HAWKINS | 01/20/2003
NORRISTOWN, PA
RUGGIERO, ROSHELL L | 01/20/2003
CONCORD, MA
RUSS, STEVEN D | 01/20/2003
NEVADA, MO
SABOURIN, PETER J | 01/20/2003
E PROVIDENCE, RI
SCHMELTER, LYNN A | 01/20/2003
VERNON, CT
SCHRADER, ANGELA | 01/20/2003
STAFFORDSVILLE, VA
SEBURA, MICHAEL S | 01/20/2003
LARGO, FL
SHERMAN, SUSAN ANNE | 01/20/2003
TROY, NY
SHOUP, MARGARET | 01/20/2003
BRANDON, MS
SHUDICK, MARY D | 01/20/2003
CHESTERTON, IN
SLATER, ROBIN ALANE | 01/20/2003
GRAYSLAKE, IL
SMALL, DULCIE CLIFFORD | 01/20/2003
HOUSTON, TX
SMITH, MARY MARGARET | 01/20/2003
ALEXANDER, IL
SMITH, YUBIRY ANN | 01/20/2003
W PALM BEACH, FL
SMITH, SUSAN MARGARET | 01/20/2003
PHOENIX, AZ
SMOOT, JOHN MEDLEY | 01/20/2003
BATESVILLE, MS
SPROULE, TERESA LYNN | 01/20/2003
TOOELE, UT
STANLEY, PATRICIA ANN | 01/20/2003
MANSFIELD, TX
STANLEY, JUANITA L | 01/20/2003
MESA, AZ
STILPHEN-CAREY, RAINE R | 01/20/2003
BELCHERTOWN, MA
STONE, COREY GEORGE | 01/20/2003
SALT LAKE CITY, UT
SUNDQUIST, MARSHA ANN | 01/20/2003
CHANDLER, AZ
TANNER, LUANN | 01/20/2003
OMAHA, NE
TAYLOR, JANICE LYNN | 01/20/2003
CASE GRANDE, AZ
TAYLOR, LANNY | 01/20/2003
CORINTH, MS
THOMPSON, DENNIS RAY | 01/20/2002
ALEXANDRIA, IN
THRASHER, RENEE COLLEEN | 01/20/2003
DECATUR, TX
TRIPP, KENNETH R | 01/20/2003
KNIGHTDALE, NC
VALDEZ, LINDA NAVARRO | 01/20/2003
SAN ANTONIO, TX
VANDAL, LEO P JR | 01/20/2003
MATTAPOISETT, MA
VISKOCIL, SUSAN KATHLEEN | 01/20/2003
MODESTO, CA
WALLACE, JENELLEN L | 01/20/2003
PHOENIX, AZ
WEBB, ROBERTA | 01/20/2003
SHOW LOW, AZ
WHITT, PATSY | 01/20/2003
WESSON, MS
WILLIAMS, DEBRA MARIE | 01/20/2003
MARIETTA, OH
WOOD, DONNA L | 01/20/2003
FOREST, MS
YOUNG, BRIAN WESLEY | 01/20/2003
CINCINNATI, OH
YOUSSEF,OMAR A | 01/20/2003
HYDEN, KY
FEDERAL/STATE EXCLUSION/SUSPENSION
HAMRICK-BURWELL, LIANE | 01/20/2003
ELLSWORTH, ME
WALKER, BARBARA | 01/20/2003
E ORANGE, NJ
OWNED/CONTROLLED BY CONVICTED ENTITIES
AMERICAN INSTITUTE OF PLASTIC | 01/20/2003
FT LAUDERDALE, FL
GUADALUPE MULTI SPECIALTY FAMI | 01/20/2003
LOS ANGELES, CA
INSTITUTE FOR COSMETIC SURGERY | 01/20/2003
FT LAUDERDALE, FL
NORTHTOWN CHIROPRACTIC CLINIC | 01/20/2003
SPOKANE, WA
STOCKTON CHIROPRACTIC CTR | 01/20/2003
STOCKTON, CA
DEFAULT ON HEAL LOAN
CHEEK, DAVID L | 01/20/2003
DALLAS, TX
CLARK, GARY C R | 01/20/2003
TRAVELERS REST, SC
CLEMENTS, DAVID DALE | 11/07/2002
DALLAS, TX
GREENE, SILAS R | 11/07/2002
MEXICO BEACH, FL
RICO, DAVID | 11/07/2002
MAKAWAO, HI
WEISSE, CARL E | 12/10/2002
PHILADELPHIA, PA

Dated: January 3, 2003.
Katherine B. Petrowski,
Director, Health Care Administrative Sanctions, Office of Inspector General.

[FR Doc. 03-1141 Filed 1-17-03; 8:45 am]

BILLING CODE 4150-04-P